FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)).

The comment period for this application has been extended. Comments regarding this application must be received at the Reserve Bank indicated or the offices of the Board of Governors not later than May 16, 2016.

A. Federal Reserve Bank of Cleveland (Allen M. Brown, Banking Supervisor) 1455 East Sixth Street, Cleveland, Ohio 44101-2566:

1. Huntington Bancshares Incorporated, Columbus, Ohio; to acquire FirstMerit Corporation, and thereby acquire control of its subsidiary bank, FirstMerit Bank, N.A., both in Akron, Ohio.

Board of Governors of the Federal Reserve System, April 22, 2016.
Robert deV. Frierson,
Secretary of the Board.

[FR Doc. 2016-09920 Filed 4-27-16; 8:45 am]

BILLING CODE P